DEPARTMENT OF DEFENSE

Defense Acquisition Regulations System

[Docket DARS-2021-0004; OMB Control Number 0704-0533]

Information Collection Requirement; Defense Federal Acquisition Regulation Supplement; DFARS Part 249, Termination of Contracts, and a Related Clause at DFARS 252.249-7002, Notification of Anticipated Contract Termination or Reduction

AGENCY: Defense Acquisition Regulations System, Department of Defense (DoD).

ACTION: Notice and request for comments regarding a proposed extension of an approved information collection requirement.

SUMMARY: In compliance with the Paperwork Reduction Act of 1995, DoD announces the proposed extension of a public information collection requirement and seeks public comment on the provisions thereof. DoD invites comments on: Whether the proposed collection of information is necessary for the proper performance of the functions of DoD, including whether the information will have practical utility; the accuracy of the estimate of the burden of the proposed information collection; ways to enhance the quality, utility, and clarity of the information to be collected; and ways to minimize the burden of the information collection on respondents, including the use of automated collection techniques or other forms of information technology. The Office of Management and Budget (OMB) has approved this information collection requirement for use through June 30, 2021. DoD proposes that OMB extend its approval for use for three additional years beyond the current expiration date.

DATES: DoD will consider all comments received by May 18, 2021.

ADDRESSES: You may submit comments, identified by OMB Control Number 0704-0533, using any of the following methods:

○ Federal eRulemaking Portal: https://www.regulations.gov. Follow the instructions for submitting comments.

○ Email: osd.dfars@mail.mil. Include OMB Control Number 0704-0533 in the subject line of the message.

○ Mail: Defense Acquisition Regulations System, Attn: Ms. Kimberly Ziegler, OUSD(A&S)DPC/DARS, 3060 Defense Pentagon, Room 3B938, Washington, DC 20301-3060.

Comments received generally will be posted without change to https://www.regulations.gov, including any personal information provided.

FOR FURTHER INFORMATION CONTACT: Ms. Kimberly Ziegler, 571-372-6095.

SUPPLEMENTARY INFORMATION: Title and OMB Number: Defense Federal Acquisition Regulation Supplement (DFARS) Part 249, Termination of Contracts, and a Related Clause at DFARS 252.249-7002, Notification of Anticipated Contract termination or Reduction; OMB Control Number 0704-0533.

Type of Request: Extension.

Affected Public: Businesses or other for-profit and not-for profit institutions.

Respondent's Obligation: Required to obtain or retain benefits.

Respondents: 42.

Responses per Respondent: 6.19, approximately.

Annual Responses: 260.

Hours per response: 0.74, approximately.

Estimated Hours: 193.

Reporting Frequency: On occasion.

Needs and Uses: Defense Federal Acquisition Regulation Supplement (DFARS) clause 252.249-7002, Notification of Anticipated Contract Termination or Reduction, is used in all contracts under a major defense program. This clause requires contractors, within 60 days after receipt of notice from the contracting officer of an anticipated termination or substantial reduction of a contract, to provide notice of the anticipated termination or substantial reduction to first-tier subcontractors with a subcontract valued at $700,000 or more. The clause also requires flowdown of the notice requirement to lower-tier subcontractors with a subcontract value at $150,000 or more. The purpose of this requirement is to help establish benefit eligibility under the Workforce Innovation and Opportunity Act (29 U.S.C. Chapter 32) for employees of DoD contractors and subcontractors adversely affected by contract termination or substantial reductions under major defense programs.

Jennifer D. Johnson,
Regulatory Control Officer, Defense Acquisition Regulations System.

[FR Doc. 2021-05549 Filed 3-18-21; 8:45 am]

BILLING CODE 5001-06-P